DEPARTMENT OF DEFENSE

Office of the Secretary

[DoD-2008-OS-0001]

Higher Initial Maximum Uniform Allowance Rate; Uniform Allowance

AGENCY: Department of Defense; Office of the Deputy Under Secretary of Defense (Civilian Personnel Policy).

ACTION: Notice.

SUMMARY: This is the final notice that the Department of Defense (DoD or “the Department”), is establishing a higher initial maximum uniform allowance to procure and issue uniform items for DoD firefighter personnel. This action is pursuant to the authority granted to DoD by Section 591.104 of title 5, Code of Federal Regulations (CFR), which states that an agency may establish one or more initial maximum uniform allowance rates greater than the Governmentwide maximum uniform allowance rate established under 5 CFR 591.103.

EFFECTIVE DATE: June 23, 2008.

FOR FURTHER INFORMATION CONTACT: Ms. Mary Olson, (703) 901-6840.

SUPPLEMENTARY INFORMATION: DoD is implementing a higher initial maximum uniform allowance to procure and issue uniform items for firefighter personnel. This is in accordance with 5 CFR 591.104, which states that an agency may establish one or more initial maximum uniform allowance rates greater than the Governmentwide maximum uniform allowance rate established under 5 CFR 591.103. The current $400.00 limit has become inadequate to maintain the uniform standards and professional image expected of DoD firefighters. The uniform items for uniformed firefighter personnel include the following items or similar items such as: Work shirts, work pants, work t-shirts, work coat, work cap, belt, dress shirts, dress pants, dress coat, dress shoes, dress hat, dress tie, weather gear, tie clips, tie bars, rank insignia, badges, patches, and name tags. The itemized total uniform cost for the listed items is $1604.14. Based on these current costs, the Department is increasing the initial maximum uniform allowance for uniformed firefighter personnel to $1,600.00. A notice of this planned action was published in the Federal Register on March 10, 2008 (73 FR 12711). Since no comments were received by the due date of May 9, 2008, DoD is proceeding with the establishment of the higher initial maximum uniform allowance rate for uniformed firefighter personnel. The effective date of this higher initial maximum uniform allowance rate is June 23, 2008.

Dated: June 17, 2008.
Patricia Toppings,
OSD Federal Register Liaison Officer, Department of Defense.

[FR Doc. E8-14197 Filed 6-23-08; 8:45 am]

BILLING CODE 5001-06-P